Proclamation 9430 of April 27, 2016

Workers Memorial Day, 2016

By the President of the United States of America

A Proclamation

The story of America is the story of its workers. With faith in one another and hope for what their country could be, generations of laborers fought, sacrificed, and organized for the rights and protections that workers across our Nation have today—including requirements to protect their health and safety. Today, we honor this legacy by reflecting on those who have lost their lives in the workplace, and we reaffirm our dedication to ensuring that people can work knowing the fullest measure of stability, security, and opportunity.

In 1969 and 1970, two pieces of legislation of enormous consequence forever changed the lives of workers across our Nation. Passed by a Democratic Congress and signed by a Republican President, the Federal Coal Mine Health and Safety Act—which required Federal inspections of coal mines, established processes and protections for ensuring the health and safety of coal miners, and was later amended to cover all miners—and the Occupational Safety and Health Act—which created new standards for worker protections in industries across America—represented milestone achievements for a cause borne out of decades of toil and struggle. Spurred by working men and women of every origin and background, the movement for worker safety was inspired by a simple notion: that those who contribute so much to the economy and spirit of our country should have every chance to share in its promise.

Since I took office, my Administration has advanced protections for America's workers. In 2014, I signed an Executive Order aimed at cracking down on Federal contractors who violate our labor laws, and in the time since, we have enhanced our rigorous processes for companies contracting with the Federal Government while working to enforce and raise standards for employers throughout our economy. We have implemented rules that cut the amount of coal dust inhaled by coal miners, and we have taken steps to protect more workers from diseases caused by exposure to silica and other harmful substances. And we will enhance our efforts to support workers injured on the job, because if you are hurt at the workplace after giving your all, you should still be able to keep food on the table.

The history of America's workers reminds us that, far from being inevitable, the progress each generation has known has been the result of the courage, determination, and solidarity demonstrated by the last. This Workers Memorial Day, as we join in solemn remembrance of those who lost their lives undertaking their labor, let us carry forward the vision of just and safe working conditions for all of America's workers. If we stay true to that essential mission, we can deliver to our children and grandchildren a future of ever greater possibility and security.

NOW, THEREFORE, I, BARACK OBAMA, President of the United States of America, by virtue of the authority vested in me by the Constitution and the laws of the United States, do hereby proclaim April 28, 2016, as Workers Memorial Day. I call upon all Americans to participate in ceremonies and activities in memory of those killed or injured due to unsafe working conditions.

IN WITNESS WHEREOF, I have hereunto set my hand this twenty-seventh day of April, in the year of our Lord two thousand sixteen, and of the Independence of the United States of America the two hundred and fortieth.

[FR Doc. 2016-10312

Filed 4-29-16; 8:45 am]

Billing code 3295-F6-P